DEPARTMENT OF HEALTH AND HUMAN SERVICES

National Institutes of Health

National Institute on Deafness and Other Communication Disorders; Amended Notice of Meeting

Notice is hereby given of a change in the meeting of the National Institute on Deafness and Other Communication Disorders Special Emphasis Panel, June 6, 2006, 1 p.m. to June 6, 2006, 4 p.m. National Institutes of Health, 6120 Executive Blvd., Rockville, MD 20852 which was published in the Federal Register on May 5, 2006, 71 FR 26548-26549.

The meeting will be held on July 19, 2006. The meeting is closed to the public.

Dated: May 23, 2006.
Anna Snouffer,
Acting Director, Office of Federal Advisory Committee Policy.

[FR Doc. 06-4981 Filed 5-30-06; 8:45 am]

BILLING CODE 4140-01-M